DEPARTMENT OF THE INTERIOR

National Park Service

National Register of Historic Places; Notification of Pending Nominations

Nominations for the following properties being considered for listing in the National Register were received by the National Park Service before November 6, 2004. Pursuant to section 60.13 of 36 CFR Part 60 written comments concerning the significance of these properties under the National Register criteria for evaluation may be forwarded by United States Postal Service, to the National Register of Historic Places, National Park Service, 1849 C Street, NW., 2280, Washington, DC 20240; by all other carriers, National Register of Historic Places, National Park Service, 1201 Eye Street, NW., 8th floor, Washington DC 20005; or by fax, (202) 371-6447. Written or faxed comments should be submitted by December 6, 2004.

Carol D. Shull,
Keeper of the National Register of Historic Places.

Arizona

Pima County

St. Philip's in the Hills Episcopal Church, 4440 N. Campbell Ave., Tucson, 04001347

Colorado

Denver County

Park Hill, Bounded by Colorado Blvd., E. 26th Ave., Dahlia St., and E. Montview Blvd., Denver, 04001348

Georgia

Pulaski County

Hawkinsville Commercial and Industrial Historic District, Roughly bounded by Dooly, Broad, Houston, and 3rd Sts., Hawkinsville, 04001349

Iowa

Clinton County

Howes Building, 419-425 Second St. S., Clinton, 04001351

Davis County

Wishard, Henry, House, 406 W. Jefferson St., Bloomfield, 04001350

Woodbury County

Great Northern Railway Steam Locomotive No. 1355 and Tender 1451, 3400 Sioux River Rd., Sioux City, 04001352

Kansas

Douglas County

Black Jack Battlefield (Boundary Increase), US 56 and Cty Rd. 200, 3.0 mi. E. of Baldwin City, Baldwin, 04001373

Maryland

Montgomery County

Hammond Wood Historic District (Subdivisions and Architecture Planned and Designed by Charles M. Goodman Associates in Montgomery County, MD MPS), Veirs Mill Rd., Highview Ave., Pendleton Dr., College View Dr., Woodridge Ave., Silver Spring, 04001355

Rock Creek Woods Historic District, 11504, 11506 Connecticut Ave., 3600-3702 Spruell Dr., 3908-4020 Rickover Rd., 4004-4019 Ingersol Dr., Silver Spring, 04001354

Takoma Avenue Historic District (Subdivisions and Architecture Planned and Designed by Charles M. Goodman Associates in Montgomery County, MD MPS), 7906, 7908, 7910, 7912, 7914 Takoma Ave., Takoma Park, 04001353

Prince George's County

Hyattsville Historic District (Boundary Increase), Roughly bounded by B&O RR Tracks, East-West Hwy, 42nd Pl., Madison, 37th, 38th Ave., Hamilton, and 37th Pl., Hyattsville, 04001356

Minnesota

Big Stone County

Graceville Historical Marker (Federal Relief Construction in Minnesota MPS AD), MN 28, Graceville, 04001358

Wabasha County

Reads Landing Overlook (Federal Relief Construction in Minnesota MPS AD), MN 61, Pepin Township, 04001359

Montana

Lewis and Clark County

Montana Veterans and Pioneers Memoiral Building, 225 North Roberts, Helena, 04001357

South Dakota

Codington County

Schafer Farmstead, 15539 444th Ave., Florence, 04001361

Zech Farmstead, 16676 456th Ave., Watertown, 04001360

Hutchinson County

Freeman Junior College, 748 S. Main St., Freeman, 04001362

Jerauld County

Nielson, L.P., Barn, 23251 393rd Ave., Woonsocket, 04001363

Lincoln County

Brooklyn School District #42 (Schools in South Dakota MPS), 29534 468th Ave., Beresford, 04001364

Schmid, Mathias, Farm, 47405 293rd St., Beresford, 04001367

Pennington County

Black Hills Model Home, 2101 West Blvd., Rapid City, 04001366

Otho Mining District, 13380 Greyhound Gulch, Otho, 04001365

Vermont

Windsor County

West Hartford Village Historic District, VT 14, Harper Savage Ln., Tigertown Rd., and Stetson Rd., Hartford, 04001368

Virginia

Richmond Independent City

Oakwood-Chimborazo Historic District, Roughly N. 30th-N. 39th St., Chimborazo, Meldon, Oakwood, E. Broad, Briel, E. Clay, E. Leigh, M, E. Marshall, N, O, and P, Richmond (Independent City), 04001372

Washington

Skagit County

Wilson Hotel, 804 Commercial Ave., Anacortes, 04001369

Whatcom County

Barlow Building (Commercial Buildings of the Central Business District of Bellingham, Washington MPS), 211 W. Holly St., Bellingham, 04001371

Daylight Building (Commercial Buildings of the Central Business District of Bellingham, Washington MPS), 1201-1213 N. State St., Bellingham, 04001370

A request for REMOVAL has been made for the following resources:

Kansas

Doniphan County

Eclipse School, Off US 36 NE of Troy, Troy vicinity, 88000200

Harding, Benjamin, House 308 N. 5th, Wathena, 77000578

Mission-Herring Barn (Byre and Bluff Barns of Doniphan County TR), US 36, Highland vicinity, 86003535

[FR Doc. 04-25656 Filed 11-18-04; 8:45 am]

BILLING CODE 4312-51-P